UNIFIED CARRIER REGISTRATION PLAN

Sunshine Act Meeting; Unified Carrier Registration Plan Board Subcommittee Meeting

TIME AND DATE: May 13, 2021, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 916 0446 8270, to listen and participate in this meeting. The website to participate via Zoom Meeting and Screenshare is https://kellen.zoom.us/j/91604468270.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Agenda will be reviewed, and the Subcommittee will consider adoption.

Ground Rules

➢ Subcommittee action only to be taken in designated areas on agenda

IV. Review and Approval of Minutes From April 1, 2021 Meeting—Subcommittee Chair

For Discussion and Possible Subcommittee Action

Draft minutes from the April 1, 2021 Subcommittee meeting via teleconference will be reviewed. The Subcommittee will consider action to approve.

V. 2023 Fee Change Recommendation—Calculation Methodology—Subcommittee Chair and UCR Depository Manager

For Discussion and Possible Subcommittee Action

The Subcommittee Chair and the UCR Depository Manager will lead a discussion regarding the merits of using an “average collections” method for estimating the remaining fees collected before the end of the registration year on September 30, 2022 versus the “minimum collections” method used for estimating fee collections over the same period. The Subcommittee may take action to make a recommendation to the UCR Board of Directors regarding the most appropriate method to use.

VI. 2023 Fee Change Recommendation—Initial Estimate—UCR Depository Manager

The UCR Depository Manager will present the initial fee calculations for the 2023 registration year. This will be an initial review to the Subcommittee and most likely will not be the final fees recommended to the UCR Board from the Subcommittee for the 2023 registration year. This will be a forward-looking analysis, and no reliance should be placed on whether these figures will be the fees that will be recommended for the 2023 registration year because they are very preliminary and subject to change prior to the Subcommittee's final fee recommendation to the Board to be made at the Subcommittee's July meeting.

VII. 2019 Registration Year Closure—UCR Depository Manager

For Discussion and Possible Subcommittee Action

The UCR Depository Manager will present to the Subcommittee the results of the final closure of the Depository for the 2019 registration year.

VIII. Other Business—Subcommittee Chair

The Subcommittee Chair will call for any other items Subcommittee members would like to discuss.

IX. Adjournment—Subcommittee Chair

The Subcommittee Chair will adjourn the meeting.

The agenda will be available no later than 5:00 p.m. Eastern time, May 5, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-09924 Filed 5-6-21; 11:15 am]

BILLING CODE 4910-YL-P